DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Community Health Center and National Health Service Corps User/Visit Survey—NEW

The purpose of this study is to conduct a sample survey which has the following components: (1) A personal interview survey of Community Health Center (CHC) and National Health Service Corps (NHSC) site users; and (2) a record-based study of visits to CHCs and NHSC sites. CHCs and NHSC sites serve predominantly poor minority medically underserved populations. The proposed user and visit survey will collect in-depth information about CHC and NHSC site users, their health status, the reasons they seek care, their diagnoses, and the services utilized in a medical encounter.

The proposed User/Visit Survey builds on a 1995 User/Visit Survey which was conducted to learn about the process and outcomes of care in CHC users. The 1995 User/Visit Survey included a personal interview of approximately 2000 users of 48 selected CHCs as well as medical record abstractions for about 3000 visits to these same health centers. The interview questionnaire was derived from the National Health Interview Survey (NHIS) conducted by the National Center for Health Statistics (NCHS) and the visit survey was an adaptation of the NCHS National Hospital Ambulatory Medical Care Survey (NHAMCS). Conformance with the NHIS and NHAMCS allowed comparisons between these NCHS surveys and the User/Visit Survey.

The proposed User/Visit Survey was developed using similar questionnaire methodology in conjunction with a contractor and will allow longitudinal comparisons for CHCs with the 1995 version of the survey data, including monitoring of process outcomes over time. This User/Visit Survey is the first year that NHSC non-grantee, freestanding sites will be surveyed.

The estimated response burden is as follows:

Form | Number of respondents | Responses per respondent | Total respondents | Hours per response | Total burden hours
Site Induction | 85 sites | 1 | 85 | 1 | 85
Site Sampling Method | 85 sites | 1 | 85 | 1.5 | 127.5
User Survey | 30 users at 70 CHCs and 40 users at 15 NHSC sites | 1 | 2,700 | 2.75 | 7,425
Visit Survey | 70 CHCs | 43 records | 3,010 | .5 | 1,505
Total |  |  |  |  | 9,142.5

Written comments and recommendations concerning the proposed information collection should be sent within 30 days of this notice to: John Morrall, Human Resources and Housing Branch, Office of Management and Budget, New Executive Office Building, Room 10235, Washington, DC 20503.

Dated: October 16, 2001.
Jane M. Harrison,
Director, Division of Policy Review and Coordination.

[FR Doc. 01-26652 Filed 10-22-01; 8:45 am]

BILLING CODE 4165-15-P